DEPARTMENT OF THE INTERIOR

Bureau of Indian Affairs

Advisory Board of Exceptional Children

AGENCY: Bureau of Indian Affairs, Interior.

ACTION: Notice of meeting.

SUMMARY: In accordance with the Federal Advisory Committee Act, the Bureau of Indian Education (BIE) is announcing that the Advisory Board for Exceptional Children (Advisory Board) will hold its next meeting in Albuquerque, New Mexico. The purpose of the meeting is to meet the mandates of the Individuals with Disabilities Education Act of 2004 (IDEA) on Indian children with disabilities.

DATES: The Advisory Board will meet on Thursday, April 30, 2009, from 8:30 a.m. to 4:45 p.m.; Friday, May 1, 2009, from 8:15 a.m. to 5 p.m.; and Saturday, May 2, 2009, from 8 a.m. to 3 p.m. Local Time.

ADDRESSES: The April 30th and May 1st meetings will be held at the Bureau of Indian Education, Albuquerque Service Center, Division of Performance and Accountability, 1011 Indian School Road NW., Room 277, Albuquerque, NM 87103; telephone 505-563-5274. The May 2, 2009, meeting will be held at the Marriot Hotel, 2101 Louisiana Blvd. NE., Albuquerque, NM; telephone 505-881-6800.

FOR FURTHER INFORMATION CONTACT: Dr. Jeff Hamley, Designated Federal Official, Bureau of Indian Education, Albuquerque Service Center, Division of Performance and Accountability, 1011 Indian School Road NW., P.O. Box 1088, Suite 332, Albuquerque, NM 87103; telephone 505-563-5260.

SUPPLEMENTARY INFORMATION: The Advisory Board was established to advise the Secretary of the Interior, through the Assistant Secretary-Indian Affairs, on the needs of Indian children with disabilities, as mandated by the Individuals with Disabilities Act of 2004 (Pub. L. 108-446).

The following items will be on the agenda:

• Advisory Board Workgroups address: State Performance Plan Indicators (SPP), Annual Performance Report (APR), and Office of Special Education Programs (OSEP) verification;

• Public Call 11:30-12 MT, Conference Number 1-888-387-8686, Pass code 4274201;

• Organization issues of Advisory Board;

• APR and Data Exceptions for BIE.

The meetings are open to the public.

Dated: April 8, 2009.
Grayford Payne,
Acting Deputy Assistant Secretary for Policy and Economic Development.

[FR Doc. E9-8724 Filed 4-15-09; 8:45 am]

BILLING CODE 4310-6W-P